DEPARTMENT OF ENERGY

Federal Energy Regulatory Commission

[Project No. 9194-027]

Passaic Valley Water Commission; Notice of Intent To File Nonpower License Application.

a. Type of Filing: Notice of Intent to File Application for Nonpower License.

b. Project No.: 9194-027.

c. Date Filed: February 28, 2024.

d. Submitted By: Passaic Valley Water Commission.

e. Name of Project: Little Falls Hydroelectric Project.

f. Location: On the Passaic River in the Township of Little Falls and Borough of Totowa, Passaic County, New Jersey.

g. Filed Pursuant to: Section 15 of the Federal Power Act, 18 CFR 16.6 and part 4 of the Commission's regulations.

h. Potential Applicant Contact: James G. Mueller, Passaic Valley Water Commission, 1525 Main Avenue, P.O. Box 230, Clifton, NJ 07011; (973) 340-4307.

i. FERC Contact: John Smith at (202) 502-8972; or email at john.smith@ferc.gov.

j. With this notice, we are initiating informal consultation with the U.S. Fish and Wildlife Service under section 7 of the Endangered Species Act and the joint agency regulations thereunder at 50 CFR part 402. We are also initiating consultation with the New Jersey State Historic Preservation Officer, as required by section 106, National Historic Preservation Act, and the implementing regulations of the Advisory Council on Historic Preservation at 36 CFR 800.2.

k. With this notice, we are designating Passaic Valley Water Commission as the Commission's non-Federal representative for carrying out informal consultation pursuant to section 7 of the Endangered Species Act and consultation pursuant to section 106 of the National Historic Preservation Act.

l. Passaic Valley Water Commission filed a Pre-Application Document (PAD; including a proposed process plan and schedule) with the Commission. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

m. The licensee states its unequivocal intent to submit an application for a nonpower license for Project No. 9194. Pursuant to 18 CFR 16.9, each application for a license or nonpower license and any competing license applications must be filed with the Commission at least 24 months prior to the expiration of the existing license. All applications for license or nonpower license for this project must be filed by March 1, 2027.

n. Register online at http://www.ferc.gov/docs-filing/esubscription.asp to be notified via email of new filings and issuances related to this or other pending projects. For assistance, contact FERC Online Support.

o. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 24, 2024.
Debbie-Anne A. Reese,
Acting Secretary.

[FR Doc. 2024-16745 Filed 7-29-24; 8:45 am]

BILLING CODE 6717-01-P